DEPARTMENT OF HOUSING AND URBAN DEVELOPMENT

[Docket No. FR-5610-N-07]

Notice of Proposed Information; Public Housing Agency Burden Reduction Survey

AGENCY: Office of the Chief Information Officer, HUD.

ACTION: Notice.

SUMMARY: The proposed information collection requirement described below will be submitted to the Office of Management and Budget (OMB) for review, as required by the Paperwork Reduction Act. The Department is soliciting public comments on the subject proposal.

The Department is looking at ways to reduce Public Housing Agency (PHA) burden through a wide range of activities from resident recertification and PHA unit inspection activities to improving access to HUD systems and information. The purpose of the survey is to determine whether the burden reduction activities have been effective.

DATES: Comment Due Date: June 29, 2012.

ADDRESSES: Interested persons are invited to submit comments regarding this proposal. Comments should refer to the proposal by name/or OMB Control number and should be sent to: Colette Pollard., Departmental Reports Management Officer, QDAM, Department of Housing and Urban Development, 451 7th Street SW., Room 4160, Washington, DC 20410-5000; telephone 202.402.3400 (this is not a toll-free number) or email Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Public Housing Agency Burden Reduction Survey.

OMB Control Number, if applicable: New.

Description of the need for the information and proposed use: The Department is looking at ways to reduce Public Housing Agency (PHA) burden through a wide range of activities from resident recertification and PHA unit inspection activities to improving access to HUD systems and information. The purpose of the survey is to determine whether the burden reduction activities have been effective.

Agency form numbers, if applicable: N/A, the data will be collected utilizing a web-based application.

Members of Affected Public: Public Housing Agencies.

Estimation of the total number of hours needed to prepare the information collection including number of respondents, frequency of response, and hours of response: The estimated number of respondents is 4074 annually with one response per respondent. The average number for each response is 1.5 hours, for a total reporting burden of 2851 hours.

Status of the proposed information collection: New.

Authority: section 3506 of the Paperwork Reduction Act of 1995, 44 U.S.C. Chapter 35, as amended.

Dated: April 20, 2012.
Merrie Nichols-Dixon,
Deputy Director, Office of Policy, Program and Legislative Initiatives.

[FR Doc. 2012-10310 Filed 4-27-12; 8:45 am]

BILLING CODE 4210-67-P